OFFICE OF THE UNITED STATES TRADE REPRESENTATIVE

Notice of Meeting of the Industry Trade Advisory Committee on Small and Minority Business (ITAC-11)

AGENCY: Office of the United States Trade Representative.

ACTION: Notice of a Partially Opened Meeting.

SUMMARY: The Industry Trade Advisory Committee on Small and Minority Business (ITAC-11) will hold a meeting on Monday, October 15, 2012, from 9:30 a.m. to 4:00 p.m. The meeting will be opened to the public from 9:30 a.m. to 12:30 p.m.

DATES: The meeting is scheduled for October 15, 2012 unless otherwise notified.

ADDRESS: The meeting will be held at the Ronald Reagan International Trade Center, Washington, DC.

FOR FURTHER INFORMATION CONTACT: Laura Hellstern, DFO for ITAC-11 at (202) 482-3222, Department of Commerce, 14th Street and Constitution Avenue NW., Washington, DC 20230.

SUPPLEMENTARY INFORMATION: The Agenda topics to be discussed are:

—Top Challenges Facing SME Exporters

—Preview of National District Export Council (DEC) Forum October 16

—US&FCS User Fee Proposal

—Proposed ITA Reorganization

Isaac Faz,
Acting, Assistant U.S. Trade Representative, Intergovernmental Affairs and Public Engagement.

[FR Doc. 2012-24680 Filed 10-4-12; 8:45 am]

BILLING CODE 3290-F3-P